DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 7, 2005.

Interested persons are invited to submit written comments regarding the subject matter of the investigations to the Director, Division of Trade Adjustment Assistance, at the address shown below, not later than April 7, 2005.

The petitions filed in this case are available for inspection at the Office of the Director, Division of Trade Adjustment Assistance, Employment and Training Administration, U.S. Department of Labor, Room C-5311, 200 Constitution Avenue, NW., Washington, DC 20210.

Signed at Washington, DC this 11th day of March 2005.
Timothy Sullivan,
Director, Division of Trade Adjustment Assistance.

Appendix
[Petitions instituted between 02/14/2005 and 02/25/2005]
TA-W | Subject firm (petitioners) | Location | Date of institution | Date of petition
56,566 | Black and Decker (Comp) | Jackson, TN | 02/14/2005 | 02/11/2005
56,567 | Kellwood Company—KMRO (Comp) | Rutherford, TN | 02/14/2005 | 02/10/2005
56,568 | Cleyn and Tinker International, Inc. (Comp) | Malone, NY | 02/14/2005 | 02/07/2005
56,569 | Wickers Sportswear, Inc. (Comp) | Selmer, TN | 02/14/2005 | 02/07/2005
56,570 | Penn Mould Industries, Inc. (USWA) | Washington, PA | 02/14/2005 | 02/10/2005
56,571 | Graham Packaging Plastic Products, Inc. (State) | La Mirada, CA | 02/14/2005 | 02/10/2005
56,572 | Hickory Finishing, Inc. (Comp) | Hickory, NC | 02/14/2005 | 02/12/2005
56,573 | Charleston Hosiery, Inc. (Comp) | Biscoe, NC | 02/14/2005 | 02/14/2005
56,574 | Skillsoft (NPW) | Nashua, NH | 02/14/2005 | 01/31/2005
56,575 | Elger Industries, Inc. (Wkrs) | Verona, MS | 02/14/2005 | 02/04/2005
56,576 | Danaher Tool Group (Comp) | Springfield, MA | 02/15/2005 | 02/14/2005
56,577 | Becton Dickinson and Company (Comp) | Seneca, SC | 02/15/2005 | 02/15/2005
56,578 | GE Security (State) | Arden Hills, MN | 02/15/2005 | 02/14/2005
56,579 | Bulklift (UNITE) | Carpentersville, IL | 02/15/2005 | 02/01/2005
56,580 | Milliken & Company (Comp) | Blacksburg, SC | 02/15/2005 | 02/11/2005
56,581 | General Aluminum Manufacturing Company (GMP) | Cedarburg, WI | 02/16/2005 | 02/15/2005
56,582 | TI Automotive (Comp) | Normal, IL | 02/16/2005 | 02/15/2005
56,583 | Agilent Technologies (State) | Loveland, CO | 02/16/2005 | 02/14/2005
56,584 | Valeo Electrical Systems, Inc. (IUECWA) | Rochester, NY | 02/16/2005 | 01/24/2005
56,585 | Latronics, Inc. (USWA) | Latrobe, PA | 02/16/2005 | 02/10/2005
56,586 | Lawson-Hemphill Sales, Inc. (Comp) | Spartanburg, SC | 02/16/2005 | 01/24/2005
56,587 | Jeanerette Sugar Co., Inc. (State) | Jeanerette, LA | 02/16/2005 | 02/15/2005
56,588 | Guy Brown (State) | Chatsworth, CA | 02/16/2005 | 01/31/2005
56,589 | Nokia (State) | Fort Worth, TX | 02/17/2005 | 02/16/2005
56,590 | Maple Mountain Associates (State) | Milford, NH | 02/17/2005 | 02/16/2005
56,591 | Sun Micro Systems, Inc. (State) | Burlington, MA | 02/17/2005 | 02/17/2005
56,592 | North East Graphics (Wkrs) | Waymart, PA | 02/17/2005 | 02/08/2005
56,593 | Geneva Manufacturing Corp. (Wkrs) | Geneva, IN | 02/17/2005 | 02/07/2005
56,594 | DuPont Photomasks, Inc. (Comp) | Kokomo, IN | 02/17/2005 | 02/16/2005
56,595 | Gardall Safe Corp. (USWA) | Syracuse, NY | 02/17/2005 | 02/07/2005
56,596 | Duro Textiles, LLC (Comp) | Fall River, MA | 02/17/2005 | 01/31/2005
56,597 | Fairey Finishing (UNITE) | Durham, NC | 02/18/2005 | 02/07/2005
56,598 | Electrolux Home Products (Comp) | Greenville, MI | 02/18/2005 | 02/14/2005
56,599 | Dorby Frocks, Ltd. (Wkrs) | New York, NY | 02/18/2005 | 01/26/2005
56,600 | Tango Pacific (State) | Portland, OR | 02/18/2005 | 02/17/2005
56,601 | Fort Howard Steel (IBB) | Green Bay, WI | 02/18/2005 | 02/16/2005
56,602 | Jetter Knitting, Inc. (Comp) | Fort Payne, AL | 02/18/2005 | 02/16/2005
56,603 | ATK—Ordnance Systems (UAW) | Janesville, WI | 02/18/2005 | 02/17/2005
56,604 | Toshiba America Consumer Products, LLC (IBEW) | Lebanon, TN | 02/18/2005 | 02/17/2005
56,605 | Pennsylvania Veneer Corp. (Comp) | Clearfield, PA | 02/18/2005 | 02/14/2005
56,606 | Solo Cup Company (IBEW) | Springfield, MO | 02/18/2005 | 02/15/2005
56,607 | Superior Uniform Group, Inc. (Comp) | Lexington, MS | 02/18/2005 | 02/16/2005
56,608 | Eaton Corporation (Comp) | Three Rivers, MI | 02/22/2005 | 02/18/2005
56,609 | Celanese Acetate, LLC (Comp) | Rock Hill, SC | 02/22/2005 | 02/18/2005
56,610 | Silgan Containers (Wkrs) | Oconomowoc, WI | 02/22/2005 | 02/18/2005
56,611 | Global Accessories, Inc. (Comp) | Phoenix, AZ | 02/22/2005 | 02/17/2005
56,612 | A.O. Smith Electrical Products Company (Comp) | McMinnville, TN | 02/22/2005 | 02/08/2005
56,613 | Valtex, LLC (Comp) | Scottsboro, AL | 02/22/2005 | 02/18/2005
56,614 | White Knight Engineered Products, Inc. (Comp) | Childersburg, AL | 02/22/2005 | 02/07/2005
56,615 | Detroit Stoker Company (State) | Monroe, MI | 02/22/2005 | 02/14/2005
56,616 | R.J. Reynolds Tobacco Company (Comp) | Richmond, VA | 02/22/2005 | 02/17/2005
56,617 | Synalloy Corporation (State) | Spartanburg, SC | 02/22/2005 | 02/18/2005
56,618 | Staubli Corporation (Comp) | Duncan, SC | 02/22/2005 | 02/17/2005
56,619 | Springs Industries (Comp) | Griffin, GA | 02/22/2005 | 02/18/2005
56,620 | Springs Industries (Comp) | Hartwell, GA | 02/22/2005 | 02/18/2005
56,621 | Triumph Engineered Solutions, Inc. (IAMAW) | Brookfield, WI | 02/23/2005 | 02/18/2005
56,622 | Inland (Wkrs) | Raleigh, NC | 02/23/2005 | 02/16/2005
56,623 | Sussex Zinc Plating, Inc. (State) | Sussex, WI | 02/23/2005 | 02/21/2005
56,624 | General Motors Corp. (Comp) | Pontiac, MI | 02/23/2005 | 02/15/2005
56,625 | Longwear Hosiery Mill, Inc. (Comp) | Hillebran, NC | 02/23/2005 | 02/21/2005
56,626 | Tee Jays Manufacturing Co., Inc. (Comp) | Florence, AL | 02/23/2005 | 02/21/2005
56,627 | Codet Newport Corp. (Wkrs) | Colebrook, NH | 02/23/2005 | 02/18/2005
56,628 | Vishay Dale Electronics, Inc. (State) | Norfolk, NE | 02/24/2005 | 02/22/2005
56,629 | Datex—Ohmeda, Inc. (Comp) | Louisville, CO | 02/24/2005 | 02/21/2005
56,630 | Sherwood Harsco Gas Service (USWA) | Washington, PA | 02/24/2005 | 02/22/2005
56,631 | Collins and Aikman (USWA) | Canton, OH | 02/25/2005 | 02/22/2005
56,632 | Celestica (Comp) | Mt. Pleasant, IA | 02/25/2005 | 02/22/2005
56,633 | Syracuse China (Wkrs) | Syracuse, NY | 02/25/2005 | 02/08/2005
56,634 | Kopin Corporation (Comp) | Taunton, MA | 02/25/2005 | 02/16/2005
56,635 | Green Acre Creation, Inc. (Comp) | Long Island City, NY | 02/25/2005 | 02/08/2005
56,636 | M.J. Soffee Co. (Comp) | Bladenboro, NC | 02/25/2005 | 02/09/2005
56,637 | Oneida Ltd. (Comp) | Sherrill, NY | 02/25/2005 | 02/21/2005
56,638 | Valspar (Wkrs) | Galax, VA | 02/25/2005 | 02/17/2005
56,639 | Prism Technology and Assemblies, LLC (Comp) | Meadville, PA | 02/25/2005 | 02/10/2005
56,640 | ATS (Automation Tooling Systems) (State) | McAllen, TX | 02/25/2005 | 02/23/2005
56,641 | Stant Manufacturing, Inc. (UAW) | Connersville, IN | 02/25/2005 | 02/01/2005
56,642 | Turtle Fur Company (Comp) | Morrisville, VT | 02/25/2005 | 02/16/2005
56,643 | America Online, Inc. (Wkrs) | Oklahoma City, OK | 02/25/2005 | 02/16/2005
56,644 | Truth Hardware (GMP) | West Hazleton, PA | 02/25/2005 | 02/22/2005
56,645 | Zodiac American Pools (Wkrs) | Midway, GA | 02/25/2005 | 02/02/2005
56,646 | Wheatland Tube Company (USWA) | Warren, OH | 02/25/2005 | 02/04/2005
56,647 | Stillwater Forest Products (Comp) | Kalispell, MT | 02/25/2005 | 02/23/2005

[FR Doc. E5-1359 Filed 3-25-05; 8:45 am]

BILLING CODE 4510-30-P